DEPARTMENT OF HEALTH AND HUMAN SERVICES

Centers for Disease Control and Prevention

Notice of Meeting; Office of the Director, Centers for Disease Control and Prevention (CDC), Announces the Following Meeting

NAME: Guide to Community Preventive Services (GCPS) Task Force Meeting.

TIMES AND DATES: 9 a.m.-6 p.m., June 13, 2001. 9 a.m.-4 p.m., June 14, 2001.

PLACE: The Old Courthouse on the Square, 101 East Court Square, Decatur, Georgia 30030, telephone (404) 373-1088.

STATUS: Open to the public, limited only by the space available. The meeting room accommodates approximately 50 people.

PURPOSE: The mission of the Task Force is to develop and publish a Guide to Community Preventive Services, which is based on the best available scientific evidence and current expertise regarding essential public health services and what works in the delivery of those services.

MATTERS TO BE DISCUSSED: Agenda items include: presentation of recommendations for approval for the following chapters: Cancer, Physical Activity, Tobacco, Vaccine Preventive Diseases and Violence Prevention; presentation of the dissemination plan; and general updates on Methods and the Clinical Guide.

Agenda items are subject to change as priorities dictate.

CONTACT PERSON FOR ADDITIONAL INFORMATION: Stephanie Zaza, M.D., M.P.H., Chief, Community Guide Branch, Division of Prevention Research and Analytic Methods, Epidemiology Program Office, CDC, 4770 Buford Highway, M/S K-73, Atlanta, Georgia 30341, telephone 770/488-8189. Persons interested in reserving a space for this meeting should call 770/488-8189 by close of business on June 11, 2001.

The Director, Management Analysis and Services office has been delegated the authority to sign Federal Register notices pertaining to announcements of meetings and other committee management activities, for both the Centers for Disease Control and Prevention and the Agency for Toxic Substances and Disease Registry.

Dated: June 4, 2001.
John Burckhardt,
Acting Director, Management Analysis and Services Office, Centers for Disease Control and Prevention.

[FR Doc. 01-14448 Filed 6-7-01; 8:45 am]

BILLING CODE 4163-18-P